DEPARTMENT OF ENERGY

Federal Energy Regulatory Commission

Combined Notice of Filings #1

September 14, 2007.

Take notice that the Commission received the following open access transmission tariff filings:

Docket Numbers: OA07-82-000.

Applicants: Duke Energy Carolinas, LLC.

Description: Attachment C Compliance Filing of Duke Energy Carolinas, LLC.

Filed Date: 09/10/2007.

Accession Number: 20070910-5003.

Comment Date: 5 p.m. Eastern Time on Monday, October 1, 2007.

Docket Numbers: OA07-83-000.

Applicants: Avista Corporation.

Description: Avista Corporation Compliance pursuant to Order No. 890 OATT Re Attachment C.

Filed Date: 09/10/2007.

Accession Number: 20070910-5021.

Comment Date: 5 p.m. Eastern Time on Monday, October 1, 2007.

Docket Numbers: OA07-84-000.

Applicants: NorthWestern Corporation (Montana).

Description: NorthWestern Corporation (Montana) submits Order No. 890, Attahment C, methodology to Assess Available Transfer Capability.

Filed Date: 09/10/2007.

Accession Number: 20070910-5040.

Comment Date: 5 p.m. Eastern Time on Monday, October 1, 2007.

Docket Numbers: OA07-85-000.

Applicants: Ohio Valley Electric Corporation.

Description: Order No. 890 OATT—Revised Attachment C (Methodology to Assess Available Transfer Capability) of Ohio Valley Electric Corporation.

Filed Date: 09/11/2007.

Accession Number: 20070911-5005.

Comment Date: 5 p.m. Eastern Time on Tuesday, October 2, 2007.

Docket Numbers: OA07-86-000.

Applicants: Cleco Power, LLC.

Description: Attachment C Compliance Filing of Cleco Power, LLC.

Filed Date: 09/11/2007.

Accession Number: 20070911-5015.

Comment Date: 5 p.m. Eastern Time on Tuesday, October 2, 2007.

Docket Numbers: OA07-87-000.

Applicants: Tampa Electric Company.

Description: Attachment C Compliance Filing of Tampa Electric Company.

Filed Date: 09/11/2007.

Accession Number: 20070911-5016.

Comment Date: 5 p.m. Eastern Time on Tuesday, October 2, 2007.

Docket Numbers: OA07-88-000.

Applicants: Florida Power Corporation; Carolina Power & Light Company.

Description: Order No. 890 Compliance filing for Joint OATT of Florida Power Corporation and Carolina Power & Light Company (Progress Energy).

Filed Date: 09/11/2007.

Accession Number: 20070911-5017.

Comment Date: 5 p.m. Eastern Time on Tuesday, October 2, 2007.

Docket Numbers: OA07-89-000.

Applicants: Florida Power & Light Company.

Description: Florida Power & Light Co submits revised OATT Attachment C.

Filed Date: 09/11/2007.

Accession Number: 20070912-0063.

Comment Date: 5 p.m. Eastern Time on Tuesday, October 2, 2007.

Docket Numbers: OA07-90-000.

Applicants: MidAmerican Energy Company.

Description: MidAmerican Energy Company submits revised tariff sheets to conform its OATT Attachment C to the Order No. 890 requirements.

Filed Date: 09/11/2007.

Accession Number: 20070911-5036.

Comment Date: 5 p.m. Eastern Time on Tuesday, October 2, 2007.

Docket Numbers: OA07-91-000.

Applicants: Xcel Energy Services, Inc.

Description: Order No. 890 OATT, Attachment C of Xcel Energy Services Inc.

Filed Date: 09/11/2007.

Accession Number: 20070911-5044.

Comment Date: 5 p.m. Eastern Time on Tuesday, October 2, 2007.

Docket Numbers: OA07-91-000.

Applicants: Xcel Energy Services, Inc.

Description: Errata to Filing correcting sheet designation for tariff sheet no. 110.

Filed Date: 09/12/2007.

Accession Number: 20070912-5078.

Comment Date: 5 p.m. Eastern Time on Tuesday, October 2, 2007.

Docket Numbers: OA07-92-000.

Applicants: Southern Company Services, Inc.

Description: Order No. 890, Attachment C to the pro forma OATT of Southern Company Services, Inc.

Filed Date: 09/11/2007.

Accession Number: 20070911-5055.

Comment Date: 5 p.m. Eastern Time on Tuesday, October 2, 2007.

Docket Numbers: OA07-93-000.

Applicants: Louisville Gas & Electric Company/KU; E.ON U.S., LLC.

Description: Attachment C Compliance Filing of E.ON U.S., LLC. on behalf of Louisville Gas/Kentucky Utilities, et al.

Filed Date: 09/11/2007.

Accession Number: 20070911-5051.

Comment Date: 5 p.m. Eastern Time on Tuesday, October 2, 2007.

Docket Numbers: OA07-94-000.

Applicants: Aquila, Inc.

Description: Attachment C Compliance Filing of Aquila, Inc. of Aquila, Inc.

Filed Date: 09/11/2007.

Accession Number: 20070911-5052.

Comment Date: 5 p.m. Eastern Time on Tuesday, October 2, 2007.

Docket Numbers: OA07-95-000.

Applicants: Sierra Pacific Resources Operating Company.

Description: Filing of a proposed OATT Attachment C-Methodology To Assess Available Transfer Capability pursuant to Order No. 890 for the Sierra Pacific Resources Operating Companies OATT.

Filed Date: 09/11/2007.

Accession Number: 20070911-5056.

Comment Date: 5 p.m. Eastern Time on Tuesday, October 2, 2007.

Docket Numbers: OA07-96-000.

Applicants: Idaho Power Company.

Description: Order No. 890 OATT Attachment C Compliance Filing of Idaho Power Company.

Filed Date: 09/11/2007.

Accession Number: 20070911-5061.

Comment Date: 5 p.m. Eastern Time on Tuesday, October 2, 2007.

Docket Numbers: OA07-97-000.

Applicants: El Paso Electric Company.

Description: El Paso Electric Company's Order No. 890 Oatt. C Compliance Filing Service Letter.

Filed Date: 09/11/2007.

Accession Number: 20070911-5066.

Comment Date: 5 p.m. Eastern Time on Tuesday, October 2, 2007.

Docket Numbers: OA07-98-000.

Applicants: Kansas City Power & Light Company.

Description: Kansas City Power & Light Compliance with Order No. 890.

Filed Date: 09/11/2007.

Accession Number: 20070911-5067.

Comment Date: 5 p.m. Eastern Time on Tuesday, October 2, 2007.

Docket Numbers: OA07-99-000.

Applicants: Maine Electric Power Company, Inc.

Description: Request for Temporary Waiver of Order No. 890 of Maine Electric Power Company, Inc.

Filed Date: 09/11/2007.

Accession Number: 20070911-5039.

Comment Date: 5 p.m. Eastern Time on Tuesday, October 2, 2007.

Docket Numbers: OA07-100-000.

Applicants: POWDER RIVER ENERGY CORP.; Black Hills Power, Inc.; Basin Electric Power Cooperative, Inc.

Description: Order No. 890 Attachment C compliance filing of Black Hills Power, Inc., et al.

Filed Date: 09/11/2007.

Accession Number: 20070911-5069.

Comment Date: 5 p.m. Eastern Time on Tuesday, October 2, 2007.

Docket Numbers: OA07-101-000.

Applicants: El Paso Electric Company.

Description: El Paso Electric Company's Order No. 890 Oatt Attachment C Compliance Filing.

Filed Date: 09/10/2007.

Accession Number: 20070910-5051.

Comment Date: 5 p.m. Eastern Time on Monday, October 1, 2007.

Docket Numbers: OA07-102-000.

Applicants: Mid-Continent Area Power Pool.

Description: Order No. 890 OATT Attachment C of Mid-Continent Area Power Pool.

Filed Date: 09/11/2007.

Accession Number: 20070911-5070.

Comment Date: 5 p.m. Eastern Time on Tuesday, October 2, 2007.

Docket Numbers: OA07-103-000.

Applicants: Portland General Electric Company.

Description: Order No. 890 OATT of Portland General Electric Company Attachment C.

Filed Date: 09/11/2007.

Accession Number: 20070911-5072.

Comment Date: 5 p.m. Eastern Time on Tuesday, October 2, 2007.

Docket Numbers: OA07-104-000.

Applicants: Maine Public Service Company.

Description: Order No. 890 OATT of Maine Public Service Company.

Filed Date: 09/11/2007.

Accession Number: 20070911-5068.

Comment Date: 5 p.m. Eastern Time on Tuesday, October 2, 2007.

Docket Numbers: OA07-105-000.

Applicants: Puget Sound Energy, Inc.

Description: Order No. 890 Attachment C Compliance Filing of Puget Sound Energy, Inc.

Filed Date: 09/12/2007.

Accession Number: 20070911-5079.

Comment Date: 5 p.m. Eastern Time on Wednesday, October 3, 2007.

Docket Numbers: OA07-106-000.

Applicants: NewCorp Resources Electric Cooperative, Inc.

Description: NewCorp Resources Electric Cooperative, Inc submits a request for a waiver of the requirement to develop and include as Attachment C to its Open Access Transmission Tariff revised provision for the calculation of ATC.

Filed Date: 09/11/2007.

Accession Number: 20070913-0059.

Comment Date: 5 p.m. Eastern Time on Tuesday, October 2, 2007.

Docket Numbers: OA07-107-000.

Applicants: Tucson Electric Power Company; UNS Electric, Inc.

Description: Revised Attachment C, Order No. 890 Compliance Filing of Tucson Electric Power Company and UNS Electric, Inc.

Filed Date: 09/11/2007.

Accession Number: 20070911-5043.

Comment Date: 5 p.m. Eastern Time on Tuesday, October 2, 2007.

Docket Numbers: OA07-108-000.

Applicants: Tucson Electric Power Company; UNS Electric, Inc.

Description: Revised Attachment C, Order No. 890 Compliance Filing of Tucson Electric Power Company and UNS Electric, Inc.

Filed Date: 09/11/2007.

Accession Number: 20070911-5043.

Comment Date: 5 p.m. Eastern Time on Tuesday, October 2, 2007.

Docket Numbers: OA07-109-000.

Applicants: Arizona Public Service Company.

Description: Attachment C Compliance filing of Arizona Public Service Company.

Filed Date: 09/11/2007.

Accession Number: 20070911-5046.

Comment Date: 5 p.m. Eastern Time on Tuesday, October 2, 2007.

Docket Numbers: OA07-110-000.

Applicants: NorthWestern Corporation.

Description: NorthWestern Corporation requests a temporary waiver of the remaining Order No. 890 compliance requirements.

Filed Date: 09/11/2007.

Accession Number: 20070911-5071.

Comment Date: 5 p.m. Eastern Time on Tuesday, October 2, 2007.

Docket Numbers: OA07-111-000.

Applicants: South Carolina Electric & Gas Company.

Description: South Carolina Electric & Gas Company submits its revised Attachment C to its Open Access Transmission Tariff.

Filed Date: 09/11/2007.

Accession Number: 20070911-5075.

Comment Date: 5 p.m. Eastern Time on Tuesday, October 2, 2007.

Docket Numbers: OA07-113-000.

Applicants: Public Service Company of New Mexico.

Description: Order No. 890 OATT Attachment C filing of Public Service Company of New Mexico.

Filed Date: 09/11/2007.

Accession Number: 20070911-5029.

Comment Date: 5 p.m. Eastern Time on Tuesday, October 2, 2007.

Docket Numbers: OA07-114-000.

Applicants: PacifiCorp.

Description: Order No. 890 OATT Attachment C Filing of Pacificorp.

Filed Date: 09/11/2007.

Accession Number: 20070911-5060.

Comment Date: 5 p.m. Eastern Time on Tuesday, October 2, 2007.

Docket Numbers: OA07-115-000.

Applicants: Alcoa Power Generating, Inc.—Yadkin.

Description: Yadkin Division of Alcoa Power Generating, Inc. submits Attachment C Methodology to Assess Available Transfer Capability in Order 890.

Filed Date: 09/11/2007.

Accession Number: 20070913-0014.

Comment Date: 5 p.m. Eastern Time on Tuesday, October 2, 2007.

Nathaniel J. Davis, Sr.,
Acting Deputy Director.

[FR Doc. E7-18549 Filed 9-20-07; 8:45 am]

BILLING CODE 6717-01-P